NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 4, 2006. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Bruce R. Mate (Permit Application No. 2007-022), Hatfield Marine Science Center, Oregon State University, Newport, OR 97365-5269.

Activity for Which Permit Is Requested: Take, and Import into the U.S. The applicant proposes to apply Argos satellite-monitored radio tags annually to 24 humpback whales, and, if the opportunity arose, 5 each of blue and fin whales during the next 5 years. The objectives of the proposed research are to: (1) Track whale movements within their feeding habitat during the austral summer; (2) examine the relationship between these movements and available prey distribution information as well as physical and biological oceanographic conditions; and (3) identify migration routes from their summer feeding grounds in the Antarctic Peninsula region to their winter breeding and calving areas. In addition, the applicant will conduct biopsy sampling of all tagged whales for sex determination and genetic analysis. Collected samples will be returned to the United States for further scientific study.

Location: Antarctic Peninsula region.

Dates: January 1, 2007 to January 1, 2012.

Nadene G. Kennedy,
Permit Officer, Office of Polar Programs.

[FR Doc. E6-18460 Filed 11-1-06; 8:45 am]

BILLING CODE 7555-01-P